NUCLEAR REGULATORY COMMISSION

[Docket No. 50-391]

In the Matter of Tennessee Valley Authority (Watts Bar Nuclear Plant, Unit 2); Order

Tennessee Valley Authority (TVA, the permittee) is the current holder of Construction Permit No. CPPR-92, issued by the Atomic Energy Commission on January 23, 1973, for construction of the Watts Bar Nuclear Plant (WBN), Unit 2. Construction Permit CPPR-91 for construction of WBN Unit 1 was also issued on January 23, 1973, and Facility Operating License NPF-90 was issued for operation of Unit 1 on February 7, 1996. WBN Unit 2 is currently partially completed. These facilities are at the permittee's site on the west branch of the Tennessee River, approximately 50 miles northeast of Chattanooga, Tennessee.

On May 8, 2008, TVA filed a request pursuant to Section 50.55(b) of Title 10 of the Code of Federal Regulations (10 CFR 50.55(b)) for an extension of the construction permit completion date for WBN Unit 2 to March 31, 2013. This request superseded an earlier letter dated March 6, 2008. TVA requested this extension to the WBN Unit 2 construction permit for the following reasons, as stated in its application:

In a Record of Decision published in the Federal Register on August 15, 2007 (72 Fed. Reg. 45859), TVA stated that proceeding with the completion and operation of WBN Unit 2 is the best decision for TVA and the Tennessee Valley in terms of power supply, power price, generation mix, return on investment, use of existing assets, and avoidance of environmental impacts. TVA's Record of Decision explained, as mentioned above, the three-fold benefits of assuring future power supplies without environmental effects resulting from operation of fossil fuel generating plants (including increased emissions) avoiding even larger capital outlays associated with totally new construction, and avoiding the environmental impacts resulting from siting and constructing new power generating facilities elsewhere.

The NRC staff has prepared an Environmental Assessment and Finding of No Significant Impact, which was published in the Federal Register on June 27, 2008 (73 FR 36577). Pursuant to 10 CFR 51.32, the Commission has determined that extending the construction completion date will have no significant impact on the environment.

For further details regarding this action, see TVA's May 8, 2008, application, and the NRC staff's letter and safety evaluation of the requested extension dated July 7, 2008. Documents may be examined and/or copied for a fee at the NRC's Public Document Room, located at One White Flint North, 11555 Rockville Pike (first floor), and are accessible through the ADAMS Electronic Reading Room link at the NRC Web site, http://www.nrc.gov.

Any person adversely affected by this Order may request a hearing on this Order within 60 days of its issuance. Where good cause is shown, consideration will be given to extending the time to answer or request a hearing. A request for an extension of time must be directed to the Director, Office of Nuclear Reactor Regulation, U.S. Nuclear Regulatory Commission, and must include a statement of good cause for the extension. Requirements for hearing requests are found in 10 CFR 2.309.

All documents filed in NRC adjudicatory proceedings, including a request for hearing, any motion or other document filed in the proceeding prior to the submission of a request for hearing, and documents filed by interested governmental entities participating under 10 CFR 2.315(c), must be filed in accordance with the NRC E-Filing rule, which the NRC promulgated in August 2007, 72 FR 49139 (Aug. 28, 2007). The E-Filing process requires participants to submit and serve all adjudicatory documents over the Internet, or in some cases to mail copies on electronic storage media. Participants may not submit paper copies of their filings unless they seek a waiver in accordance with the procedures described below.

To comply with the procedural requirements associated with E-Filing, at least ten (10) days prior to the filing deadline the requestor should contact the Office of the Secretary by e-mail at HEARINGDOCKET@NRC.GOV, or by calling (301) 415-1677, to request (1) a digital ID certificate, which allows the participant (or its counsel or representative) to digitally sign documents and access the E-Submittal server for any NRC proceeding in which it is participating; and/or (2) creation of an electronic docket for the proceeding (even in instances when the requestor (or its counsel or representative) already holds an NRC-issued digital ID certificate). Each requestor will need to download the Workplace Forms Viewer™ to access the Electronic Information Exchange (EIE), a component of the E-Filing system. The Workplace Forms Viewer™ is free and is available at http://www.nrc.gov/site-help/e-submittals/install-viewer.html. Information about applying for a digital ID certificate also is available on NRC's public Web site at http://www.nrc.gov/site-help/e-submittals/apply-certificates.html.

Once a requestor has obtained a digital ID certificate, has a docket created, and downloaded the EIE viewer, it can then submit a request for a hearing through EIE. Submissions should be in Portable Document Format (PDF) in accordance with NRC guidance available on the NRC public Web site at http://www.nrc.gov/site-help/e-submittals.html. A filing is considered complete at the time the filer submits its document through EIE. To be timely, electronic filings must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the document on those participants separately. Therefore, any others who wish to participate in the proceeding (or their counsel or representative) must apply for and receive a digital ID certificate before a hearing request is filed so that they may obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have good cause for not submitting documents electronically must file an exemption request, in accordance with 10 CFR 2.302(g), with their initial paper filing requesting authorization to continue to submit documents in paper format. Such filings must be submitted by (1) first-class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Documents submitted in adjudicatory proceedings will appear in NRC's electronic hearing docket which is available to the public at http://ehd.nrc.gov/EHD_Proceeding/home.asp, unless excluded pursuant to an order of the Commission, the Atomic Safety and Licensing Board, or a Presiding Officer. Participants are requested not to include personal privacy information, such as social security numbers, home addresses, or home phone numbers in their filings. With respect to copyrighted works, except for limited excerpts that serve the purpose of the adjudicatory filings and would constitute a Fair Use application, Participants are requested not to include copyrighted materials in their submission.

If a person requests a hearing, that person shall set forth with particularity the manner in which his interest is adversely affected by this Order and shall address the criteria set forth in 10 CFR 2.309(d).

The scope of this order extending the construction completion date and any proceeding hereunder is limited to direct challenges to the permit holder's asserted reasons that show good cause justification for the extension.

Attorney for the permit holder: Maureen H. Dunn, Executive Vice President and General Counsel, Tennessee Valley Authority, 400 West Summit Hill Drive, Knoxville, TN 37902.

It is hereby ordered that the latest completion date for Construction Permit No. CPPR-92 is extended from December 31, 2010, to March 31, 2013.

Dated at Rockville, Maryland, this 7th day of July 2008.
For the Nuclear Regulatory Commission.
Eric J. Leeds,
Director, Office of Nuclear Reactor Regulation.

[FR Doc. E8-15796 Filed 7-10-08; 8:45 am]

BILLING CODE 7590-01-P